NUCLEAR REGULATORY COMMISSION

[Docket Nos. 50-373 AND 50-374]

Exelon Generation Company, LLC; Notice of Issuance of Amendment to Facility Operating License

The U.S. Nuclear Regulatory Commission (Commission) has issued Amendment No. 147 to Facility Operating License No. NPF-11 and Amendment No. 133 to Facility Operating License NPF-18, issued to Exelon Generation Company, LLC (the licensee), which revised the operating licenses and the Technical Specifications for operation of the LaSalle County Station, Units 1 and 2, respectively, located in LaSalle County, Illinois. The amendments are effective as of the date of issuance.

The amendments revise the current Technical Specifications (TS, Appendix A of the operating licenses) in their entirety with a set of improved TS (ITS) based on NUREG-1433, Revision 1, “Standard Technical Specifications, General Electric Plants BWR/4,” dated April 1995, NUREG-1434, Revision 1, “Standard Technical Specifications, General Electric Plants BWR/6,” dated April 1995, and guidance provided in the Commission's “Final Policy Statement on Technical Specifications Improvements for Nuclear Power Reactors,” published on July 22, 1993 (58 FR 39132). In addition, the amendments add new conditions to the operating licenses regarding the relocation of current TS requirements into licensee-controlled documents as part of the implementation of the ITS, and the schedule for the first performance of new and revised surveillance requirements (four conditions). The amendments also delete a license condition related to fuel movement, since its requirements have been incorporated into the ITS.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License and Opportunity for a Hearing in connection with this action was published in the Federal Register on February 16, 2001 (66 FR 10753). No request for a hearing or petition for leave to intervene was filed following this notice.

The Commission has prepared an Environmental Assessment related to the action and has determined not to prepare an environmental impact statement. Based upon the environmental assessment, the Commission has concluded that the issuance of the amendment will not have a significant effect on the quality of the human environment (66 FR 16694).

For further details with respect to the action see (1) the application for amendment dated March 3, 2000, and supplemented by letters dated March 24, June 5 (two letters), July 18, July 31, September 1, September 22, October 5, October 9, November 20, and December 18, 2000; February 15, February 28, and March 7, 2001, (2) Amendment No. 147 to License No. NPF-11 and Amendment No. 133 to License No. NPF-18, (3) the Commission's related Safety Evaluation, and (4) the Commission's Environmental Assessment. Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 30th day of March 2001.
For The Nuclear Regulatory Commission.
Stewart N. Bailey,
Project Manager, Section 2, Project Directorate III, Division of Licensing Project Management, Office of Nuclear Reactor Regulation.

[FR Doc. 01-8499 Filed 4-5-01; 8:45 am]

BILLING CODE 7590-01-P